DEPARTMENT OF ENERGY

Federal Energy Regulatory Commission

[Project Nos. 2085-014; 67-113; 2175-014; 120-020]

Southern California Edison, California; Notice of Intent To Hold a Public Meeting To Discuss the Draft Environmental Impact Statement for the Big Creek Alp Hydroelectric Projects

October 2, 2008.

On September 12, 2008, the Commission issued a Draft Environmental Impact Statement (draft EIS) for four Big Creek Hydroelectric Projects and mailed it to resource and land management agencies, interested organizations, Tribes, and individuals.

The Environmental Protection Agency noticed the draft EIS in the Federal Register on September 19, 2008 (73 FR 54393); comments are due November 3, 2008. The draft EIS evaluates the environmental consequences and developmental benefits of issuing new licenses for operating and maintaining the Mammoth Pool Project (FERC No. 2085); Big Creek Nos. 2A, 8 and Eastwood (FERC No. 67); Big Creek Nos. 1 and 2 (FERC No. 2175); and Big Creek No. 3 (FERC No. 120), located in Fresno and Madera Counties, California. Besides evaluating the projects as they now operate, the draft EIS evaluates the projects with the Settlement Agreement and with staff-recommended measures.

The public meeting, which will be recorded by an official stenographer, is scheduled as follows.

Date: Wednesday, October 15, 2008.

Time: 1-4 p.m. (PST).

Place: Piccadilly Inn Airport, 5115 East McKinley Ave, Fresno, CA 93727, Phone: (559) 251-6000.

At the meeting, resource agency personnel and other interested persons will have the opportunity to provide oral and written comments and recommendations regarding the draft EIS for the Commission's public record.

For further information, contact James Fargo at (202) 502-6095 or at james.fargo@ferc.gov.

Nathaniel J. Davis, Sr.,
Deputy Secretary.

[FR Doc. E8-23934 Filed 10-8-08; 8:45 am]

BILLING CODE 6717-01-P